DEPARTMENT OF HOMELAND SECURITY

Transportation Security Administration

[Docket No. TSA-2001-11334]

Intent To Request Renewal From OMB of One Current Public Collection of Information: Aviation Security Infrastructure Fee (ASIF) Records Retention

AGENCY: Transportation Security Administration (TSA), DHS.

ACTION: Notice.

SUMMARY: The Transportation Security Administration (TSA) invites public comment on one currently approved information collection requirement abstracted below that we will submit to the Office of Management and Budget (OMB) for renewal in compliance with the Paperwork Reduction Act. The collection requires air carriers to retain the records that support carriers' cost submissions that were collected for the Aviation Security Infrastructure Fee on the carriers' individual and aggregate costs related to screening passengers and property in calendar year 2000.

DATES: Send your comments by July 9, 2007.

ADDRESSES: Comments may be mailed or delivered to Joanna Johnson, Communications Branch, Business Management Office, Operational Process and Technology, TSA-32, Transportation Security Administration, 601 South 12th Street, Arlington, VA 22202-4220.

FOR FURTHER INFORMATION CONTACT: For Paperwork Reduction Act issues: Joanna Johnson at the above address, or by telephone (571) 227-3651 or facsimile (571) 227-3588.

For other issues: Michael Gambone, Acting Director, Office of Revenue, Office of Finance and Administration, TSA-14, Transportation Security Administration, 601 South 12th Street, Arlington, VA 22202-4220; e-mail: TSA-Fees@dhs.gov; telephone: (571) 227-2323.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA solicits comments in order to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Background

To help defray TSA's costs of providing civil aviation security services, and as authorized by 49 U.S.C. 44940, TSA published in the Federal Register on February 20, 2002, an interim final rule adding part 1511 to the Transportation Security Regulations, which imposed a security service fee (September 11th Security Fee) and a fee known as the Aviation Security Infrastructure Fee (ASIF) on certain air carriers and foreign air carriers. See 67 FR 7926, as codified at 49 CFR part 1511. The amount of ASIF collected by TSA from the carriers, both overall and per carrier, is based upon the carriers' aggregate and individual costs, respectively, for screening passengers and property in calendar year 2000. 49 U.S.C. 44940(a)(2)(B)(i), (ii).

In conjunction with the issuance of part 1511, TSA requested OMB approval to collect information necessary for TSA to establish the ASIF, including information about the carriers' individual and aggregate costs related to screening passengers and property in calendar year 2000. This information collection included submissions to TSA of data on the carriers' screening-related costs and also of independent audits of that data. On February 28, 2002, TSA published in the Federal Register a notice that OMB had approved the required collection and submission of this information under control number (2110-0002). See 67 FR 9355. This control number was subsequently transferred to a TSA OMB control number (1652-0001).

On May 18, 2004 (69 FR 28141), TSA published a further information collection request seeking OMB approval to require air carriers to retain the records that support carriers' cost submissions that were collected under control number 1652-0001 (previously 2110-0002). OMB approved the request and issued the collection OMB control number 1652-0018. The information collection proposed under this notice is intended to apply to the retention requirement of 49 CFR 1511.9, and applies to OMB control number 1652-0018.

Purpose of Information Collection

Under Part 1511, carriers must retain any and all documents, records, or information related to the amount of the ASIF, including all information applicable to the carrier's calendar year 2000 security costs and information reasonably necessary to complete an audit. This requirement includes retaining the source information for the calendar year 2000 screening costs reported to TSA; the calculations and allocations performed to assign costs submitted to TSA; information and documents reviewed and prepared for the required independent audit; the accountant's working papers, notes, worksheets, and other relevant documentation used in the audit; and, if applicable, the specific information leading to the accountant's opinion, including any determination that the accountant could not provide an audit opinion.

Description of Information Collection

The information collection, submission, and retention requirement applies to each air carrier and foreign air carrier that incurred costs for the screening of passengers and property in calendar year 2000. It is estimated that the 196 respondent air carriers and foreign air carriers will each, on average, incur $104.06 annually, which includes $54.60 in records storage, and $50 in labor costs for 2 hours of records management at $25 per hour. Thus, the total annual burden for 196 air carriers is estimated at $20,396. The annual average burden related to this requirement for all respondents combined over a three-year period is at a cost of $61,187. TSA may use the subject records to make determinations regarding security-related costs in calendar year 2000, including conducting reviews and otherwise ensuring compliance with part 1511.

Issued in Arlington, Virginia on May 3, 2007.
Fran Lozito,
Director, Business Management Office, Operational Process and Technology.

[FR Doc. E7-8818 Filed 5-8-07; 8:45 am]

BILLING CODE 9910-05-P